NUCLEAR REGULATORY COMMISSION

[Docket No. 52-039; NRC-2008-0603]

PPL Bell Bend, LLC; Bell Bend Nuclear Power Plant Combined License Application; Notice of Intent To Conduct a Supplemental Scoping Process on the Revised Site Layout

AGENCY: Nuclear Regulatory Commission.

ACTION: Solicitation of public comment.

SUMMARY: The U.S. Nuclear Regulatory Commission (NRC or the Commission) is seeking public comment for the supplemental scoping process for the Bell Bend combined license (COL) application review.

DATES: Please submit any comments by July 16, 2012.

ADDRESSES: You may access information and comment submissions related to this document, which the NRC possesses and are publically available, by searching on http://www.regulations.gov under Docket ID NRC-2008-0603. You may submit comments by the following methods:

• Federal Rulemaking Web site: Go to http://www.regulations.gov and search for Docket ID NRC-2008-0603. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

• Email Comments to: BBNP.COLEIS@nrc.gov.

To ensure that comments will be considered in the supplemental scoping process, written comments must be postmarked by July 16, 2012. Electronic comments must be submitted no later than July 16, 2012 to ensure that they will be considered in the supplemental scoping process. The NRC staff may, at its discretion, consider comments received after the end of the comment period. Participation in the supplemental scoping process for the EIS does not entitle participants to become parties to the proceeding to which this EIS relates.

FOR FURTHER INFORMATION CONTACT: Mrs. Laura Quinn-Willingham, Environmental Projects Branch 2, Division of New Reactor Licensing, Office of New Reactors, U.S. Nuclear Regulatory Commission, Washington, DC 20555-0001; telephone: 301-415-2220; email: Laura.Quinn-Willingham@nrc.gov. In her absence, please contact Mr. John Fringer at 301-415-6208 or via email at John.Fringer@nrc.gov.

SUPPLEMENTARY INFORMATION:

I. Accessing Information and Submitting Comments

A. Accessing Information

Please refer to Docket ID NRC-2008-0603 when contacting the NRC about the availability of information regarding this document. You may access information related to this document by the following methods:

• Federal Rulemaking Web Site: Go to http://www.regulations.gov and search for Docket ID NRC-2008-0603.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The revised ER is available in ADAMS under Accession Number ML12145A242. The revised ER may also be viewed on the Internet at http://www.nrc.gov/reactors/new-reactors/col/bell-bend/documents.html#application. In addition, the Mill Memorial Public Library, 495 E Main Street, Nanticoke, PA 18634, and the McBride Memorial Library, 500 N Market Street, Berwick, PA 18603, have agreed to make the revised ER available for public inspection.

• NRC's PDR: You may examine and purchase copies of public documents at the NRC's PDR, Room O1-F21, One White Flint North, 11555 Rockville Pike, Rockville, Maryland 20852.

B. Submitting Comments

Please include Docket ID NRC-2008-0603 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

II. Background

PPL Bell Bend, LLC (PPL) has submitted an application for a COL to build and operate a new unit at its Bell Bend Nuclear Power Plant (BBNPP) site, located west of the existing Susquehanna Steam Electric Station site on approximately 975 acres in Luzerne County, on the Susquehanna River, approximately 5 miles northeast of Berwick, Pennsylvania. PPL submitted the application for the COL to the NRC by letter dated October 10, 2008, pursuant to Title 10 of the Code of Federal Regulations (10 CFR) Part 52. A notice of intent to prepare an environmental impact statement (EIS) and conduct scoping was published in the Federal Register on January 6, 2009 (74 FR 470). On March 30, 2012, PPL submitted a revised Environmental Report (ER) (Part 3 of the COL application), in accordance with 10 CFR 51.45 and 51.50, to provide detailed information regarding the revised site layout that was developed in order to avoid wetland impacts by relocating the power block footprint and other plant components.

For purposes of developing the EIS the NRC is the lead agency and the U.S. Army Corps of Engineers (USACE), Baltimore District, is a cooperating agency, as described in the Memorandum of Understanding established by the NRC and the USACE (73 FR 55546; September 12, 2008).

III. Discussion

The purpose of this notice is to inform the public that the NRC and the USACE are providing the public a supplemental opportunity to participate in the environmental scoping process, as described in 10 CFR 51.29. The supplemental scoping opportunity affords the public an occasion to provide comments concerning the new information related to the revised site layout, which were not available during the initial scoping review. The supplemental scoping process will have a 30-day comment period that begins with the publication of this Federal Register notice.

This notice advises the public that the NRC and USACE intend to gather information, pertaining to the revised site layout, to prepare an EIS as part of the review of the Bell Bend COL application. Possible alternatives to the proposed action (issuance of the COL for the BBNPP) include no action, reasonable alternative energy sources, and alternate sites. As set forth in 10 CFR 51.20(b)(2), issuance of a COL under 10 CFR part 52 is an action that requires an EIS. This notice is being published in accordance with National Environmental Policy Act (NEPA) and the NRC's regulations in 10 CFR part 51.

The NRC and USACE will first conduct a supplemental scoping process on the revised ER, and, as soon as practicable thereafter, will prepare a draft EIS for public comment. Participation in this supplemental scoping process by members of the public and local, State, Tribal, and Federal government agencies is encouraged. The supplemental scoping opportunity will be used to accomplish the following:

a. Determine how the new information on the revised site layout impacts the scope of the EIS and identify the significant issues regarding the revised site layout to be analyzed in depth;

b. Identify and eliminate from detailed study those issues that are peripheral or that are not significant as they pertain to the revised site layout;

c. Identify any environmental assessments and other EISs that are being or will be prepared that are related to the new information on the revised site layout;

d. Identify other environmental review and consultation requirements related to the revised site layout;

e. Identify parties consulting with the NRC under the National Historic Preservation Act of 1966, as amended, as set forth in 36 CFR 800.8(c)(1)(i);

f. Identify any additional cooperating agencies and, as appropriate, allocate assignments for preparation and schedules for completing the EIS to the NRC, USACE, and any other cooperating agencies; and

g. Identify how the EIS preparation will include the revised site layout, including any other contractor assistance to be used.

The NRC invites the following entities to participate in the supplemental scoping process:

a. The applicant, PPL;

b. Any Federal agency that has jurisdiction by law or special expertise with respect to any environmental impact involved or that is authorized to develop and enforce relevant environmental standards;

c. Affected State and local government agencies including those authorized to develop and enforce relevant environmental standards;

d. Any affected Indian tribe;

e. Any person who requests or has requested an opportunity to participate in the scoping process; and

f. Any person who intends to petition for late leave to intervene in the proceeding, or who has submitted such a petition, or who is admitted as a party.

At the conclusion of the supplemental scoping process, the NRC staff will prepare a concise summary of the determination and conclusions reached on the scope of the environmental review for the revised site layout and will send this summary to each participant in the scoping process for whom the staff has an address. The summary will also be available for inspection through ADAMS at http://www.nrc.gov/reading-rm/adams.html and the NRC's public Web site for the COL review at http://www.nrc.gov/reactors/new-reactors/col/bell-bend.html. The NRC and USACE will then prepare and issue for comment the draft EIS, which will be the subject of a separate Federal Register notice and a public meeting. After receipt and consideration of comments on the draft EIS, the NRC and USACE will prepare a final EIS, which will also be the subject of a separate Federal Register notice and will be available to the public.

Dated at Rockville, Maryland, this 11th day of June 2012.
For the Nuclear Regulatory Commission.
David B. Matthews,
Director, Division of New Reactor Licensing, Office of New Reactors.

[FR Doc. 2012-14759 Filed 6-14-12; 8:45 am]

BILLING CODE 7590-01-P